DEPARTMENT OF COMMERCE

International Trade Administration

[C-570-917]

Laminated Woven Sacks from the People's Republic of China: Rescission of Countervailing Duty Administrative Review

AGENCY: Import Administration, International Trade Administration, Department of Commerce.

SUMMARY: The Department of Commerce (the Department) is rescinding the administrative review of the countervailing duty order on laminated woven sacks (LWS) from the People's Republic of China (PRC) for the period December 3, 2007 to December 31, 2008, with respect to Zibo Aifudi Plastic Packaging Co., Ltd. (Zibo Aifudi). Since Zibo Aifudi was the only remaining producer/exporter subject to review, this notice also serves to rescind the entire administrative review. This rescission is based on Zibo Aifudi's withdrawal of its request for review.

EFFECTIVE DATE: March 29, 2010.

FOR FURTHER INFORMATION CONTACT: Dana Mermelstein, AD/CVD Operations, Office 6, Import Administration, International Trade Administration, Department of Commerce, 14th Street and Constitution Avenue, NW, Washington, DC 20230; telephone: (202) 482-1391.

SUPPLEMENTARY INFORMATION:

Background

The Department published a notice of opportunity to request an administrative review of the countervailing duty order on LWS from the PRC. See Antidumping or Countervailing Duty Order, Finding, or Suspended Investigation; Opportunity To Request Administrative Review, 74 FR 41120 (August 14, 2009), as amended. Changshu Xinsheng Bags Producing Company Ltd. (Changshu) and Zibo Aifudi timely requested an administrative review of themselves under the countervailing duty order on LWS from the PRC for the period December 3, 2007 through December 31, 2008.¹

¹ In accordance with the World Trade Organization Agreement on Subsidies and Countervailing Measures, entries of this merchandise made on or after April 1, 2008 and before August 5, 2008 are not subject to countervailing duties.

In accordance with Section 751 (a)(1) of the Tariff Act of 1930 (the Act) and 19 CFR 351.221(c)(1)(i), the Department published a notice initiating an administrative review of the countervailing duty order. See Initiation of Antidumping and Countervailing Duty Administrative Reviews and Requests for Revocation in Part, 74 FR 48224 (September 22, 2009). Changshu subsequently withdrew its request, and the review of Changshu was rescinded on December 4, 2009. See Laminated Woven Sacks From the People's Republic of China: Partial Rescission of Countervailing Duty Administrative Review, 74 FR 63722 (December 4, 2009). On January 7, 2010, Zibo Aifudi withdrew its request for review. On January 22, 2010, petitioners (the Laminated Woven Sacks Committee and its individual members, Coating Excellence International, LLC and Polytex Fibers Corporation) filed comments objecting to a rescission of the administrative review.

Rescission of Countervailing Duty Administrative Review

The Department's regulations provide that the Department will rescind an administrative review if the party that requested the review withdraws its request for review within 90 days of the date of publication of the notice of initiation. See 19 CFR 351.213(d)(1). However, this deadline may be extended if the Department finds it reasonable to do so. See 19 CFR 351.213(d)(1). Although Zibo Aifudi filed its request shortly after the 90-day deadline, the Department has not expended any resources yet in conducting this administrative review, other than issuing the questionnaire. Petitioners have argued that the Department should not rescind the review due to their concerns that Zibo Aifudi is improperly claiming that imports of LWS produced in, and exported from, the PRC are not subject to countervailing duties because they contain woven fabric produced outside of the PRC. However, petitioners' concerns can be addressed without conducting an administrative review of the countervailing duty order. We intend to address the issue raised by petitioners separately; interested parties will be notified concerning how the Department intends to address petitioners' claims.

Therefore, because there are no compelling reasons to continue conducting this administrative review, we are accepting Zibo Aifudi's withdrawal of its request for a countervailing duty administrative review, and since no other party requested a review, the Department is rescinding this administrative review of the countervailing duty order with respect to Zibo Aifudi. Since the review is now rescinded for all parties for which a review was requested, this notice also serves to rescind the entire administrative review of the countervailing duty order on LWS for the period December 3, 2007 through December 31, 2008.

Assessment

The Department will instruct CBP to assess countervailing duties on all appropriate entries. The Department intends to issue appropriate assessment instructions directly to CBP 15 days after publication of this notice.

Notification Regarding Administrative Protective Order

This notice serves as a final reminder to parties subject to administrative protection orders (APO) of their responsibility concerning the disposition of proprietary information disclosed under APO in accordance with 19 CFR 351.305(a)(3), which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Act, as amended, and 19 CFR 351.213(d)(4).

Dated: March 22, 2010.
John M. Andersen,
Acting Deputy Assistant Secretary for Antidumping and Countervailing Duty Operations.

[FR Doc. 2010-6899 Filed 3-26-10; 8:45 am]

BILLING CODE 3510-DS-S